DEPARTMENT OF COMMERCE

National Oceanic and Atmospheric Administration

RIN: 0648-XD20

New England Fishery Management Council; Public Meeting

AGENCY: National Marine Fisheries Service (NMFS), National Oceanic and Atmospheric Administration (NOAA), Commerce.

ACTION: Notice of a public meeting.

SUMMARY: The New England Fishery Management Council (Council) will hold a one-day Council meeting on October 25, 2007, to consider actions affecting New England fisheries in the exclusive economic zone (EEZ).

DATES: The meeting will be held on Thursday, October 25 beginning at 9 a.m.

ADDRESSES: The meeting will be held at the Sheraton Colonial Hotel, One Audubon Road, Wakefield, MA 01880; telephone: (781) 245-9300.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Thursday, October 25, 2007

Following introductions, the Council will review and approve final measures for Framework Adjustment 19 to Atlantic Sea Scallop Fishery Management Plan. The biennial adjustment will set management measures for fishing years 2008 and 2009. Among others, management measures will include days-at-sea allocations, access area allocations, specific measures for the general category fishery, minor modifications to the observer set-aside program, consideration of new scallop rotational areas, a revision to the overfishing definition, a 30-day Vessel Monitoring System power-down provision, a prohibition on deck-loading scallops and crew-size restrictions on access area trips. Following a lunch break there will be an opportunity for brief comments from the public on items relevant to Council business but not otherwise listed on the agenda. The meeting will adjourn once all sea scallop agenda items are addressed.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 3, 2007.
Tracey L. Thompson,
Acting Director, Office of Sustainable Fisheries, National Marine Fisheries Service.

[FR Doc. E7-19823 Filed 10-9-07; 8:45 am]

BILLING CODE 3510-22-S